DEPARTMENT OF DEFENSE

48 CFR Parts 201 and 213

Defense Federal Acquisition Regulation Supplement; Technical Amendments

AGENCY: Department of Defense (DoD).

ACTION: Final rule.

SUMMARY: DoD is making technical amendments to the Defense Federal Acquisition Regulation Supplement to add references to DoD guidance on contracting officers' representatives and DoD purchase, travel, and fuel card programs.

DATES: Effective Date: December 20, 2005.

FOR FURTHER INFORMATION CONTACT: Ms. Robin Schulze, Defense Acquisition Regulations System, OUSD(AT&L)DPAP(DAR), IMD 3C132, 3062 Defense Pentagon, Washington, DC 20301-3062. Telephone (703) 602-0326; facsimile (703) 602-0350.

List of Subjects in 48 CFR Parts 201 and 213

Government procurement.

Michele P. Peterson,
Editor, Defense Acquisition Regulations System.

Therefore, 48 CFR parts 201 and 213 are amended as follows:

1. The authority citation for 48 CFR parts 201 and 213 continues to read as follows:

Authority: 41 U.S.C. 421 and 48 CFR Chapter 1.

PART 201—FEDERAL ACQUISITION REGULATIONS SYSTEM

2. Section 201.602-2 is amended by revising the introductory text to read as follows:

201.602-2 Responsibilities.

Contracting officers may designate qualified personnel as their authorized representatives to assist in the technical monitoring or administration of a contract. Follow the procedures at PGI 201.602-2. A contracting officer's representative (COR)—

* * * * *

PART 213—SIMPLIFIED ACQUISITION PROCEDURES

3. Section 213.301 is amended by adding paragraph (4) to read as follows:

213.301 Governmentwide commercial purchase card.

* * * * *

(4) Guidance on DoD purchase, travel, and fuel card programs is available at http://www.acq.osd.mil/dpap/pcard/pcardguidebook.htm. Additional guidance on the fuel card program is available at http://www.desc.dla.mil.

[FR Doc. 05-24221 Filed 12-19-05; 8:45 am]

BILLING CODE 5001-08-P